DEPARTMENT OF HEALTH AND HUMAN SERVICES

Health Resources and Services Administration

Ryan White HIV/AIDS Program, Part C Early Intervention Services Grant Under the Ryan White HIV/AIDS Program

AGENCY: Health Resources and Services Administration (HRSA), HHS.

ACTION: Notice of Ryan White HIV/AIDS Program Part C Early Intervention Services One-Time Noncompetitive Award to Ensure Continued HIV Primary Medical Care.

SUMMARY: To prevent a lapse in comprehensive primary care services for persons living with HIV/AIDS, HRSA will provide a one-time noncompetitive Ryan White HIV/AIDS Program Part C funds award to the Bartz-Altadonna Community Health Center (BACHC), Lancaster, California.

SUPPLEMENTARY INFORMATION: The amount of the award to ensure ongoing HIV medical services is $402,187.

Authority: Section 2651 of the Public Health Service (PHS) Act, 42 U.S.C. 300ff-51.

CFDA Number: 93.918.

Project period: The period of support for this award is 15 months, explained below in further detail.

Justification for the Exception to Competition: The Catalyst Foundation, Lancaster, California (Grant Number: H76HA00784) announced the relinquishment of their Part C grant on February 14, 2013. To prevent a lapse in HIV medical care, grant funds of $402,187 are to be awarded to BACHC to provide interim HIV medical care. BACHC is a Federally Qualified Health Center under section 330 of the PHS Act (H80CS22686), and the sub-grantee to Catalyst that is already providing the clinical care for the Ryan White HIV/AIDS Program Part C clients. The Catalyst Foundation has identified BACHC as a successor for the Part C grant. The $402,187 represents a proportional share of the last award to the Catalyst Foundation to cover 15 months of HIV primary medical care services until the service area is competed by July 1, 2014.

FOR FURTHER INFORMATION CONTACT: John Fanning, Public Health Analyst, Division of Community Based Programs, HIV/AIDS Bureau, Health Resources and Services Administration, by email at jfanning@hrsa.gov, or by phone at (301) 443-0493.

Dated: April 25, 2013.
Mary K. Wakefield,
Administrator.

[FR Doc. 2013-10304 Filed 4-30-13; 8:45 am]

BILLING CODE 4165-15-P